DEPARTMENT OF COMMERCE

[RTID 0648-XB960]

National Oceanic and Atmospheric Administration Western Pacific Fishery Management Council; Public Meetings

AGENCY: National Marine Fisheries Service (NMFS), National Oceanic and Atmospheric Administration (NOAA), Commerce.

ACTION: Notice of a public meeting.

SUMMARY: The Western Pacific Fishery Management Council (Council) will hold its Pacific Pelagic Fishery Ecosystem Plan (FEP) Plan Team (PT) meeting to discuss fishery management issues and develop recommendations to the Council for future management of pelagic fisheries in the Western Pacific region.

DATES: The Pelagic PT meeting will be held between May 3 and May 5, 2022. For specific times and agendas, see SUPPLEMENTARY INFORMATION.

ADDRESSES: The meeting will be held by web conference via Webex. Web conference access information will also be posted on the Council's website at www.wpcouncil.org. For assistance with the web conference connection, contact the Council office at (808) 522-8220.

Audio and visual portions of the web conference can be accessed at: https://wprfmc.webex.com/wprfmc/j.php?MTID=m35b9b3a400f5a703fec6285db2bb958f. Event number (if prompted): 2455 435 6040. Event password (if prompted): PPT0503mtg.

FOR FURTHER INFORMATION CONTACT: Kitty M. Simonds, Executive Director, Western Pacific Fishery Management Council; telephone: (808) 522-8220.

SUPPLEMENTARY INFORMATION: The Pelagic PT meeting will be held on May 3-5, 2022, and run each day from 1 p.m. to 5 p.m. Hawaii Standard Time (HST) (12 p.m. to 4 p.m. Samoa Standard Time (SST); 9 a.m. to 1 p.m. on May 4-6, 2022, Chamorro Standard Time (ChST)). Public comment periods will be provided in the agenda. The order in which agenda items are addressed may change. The meetings will run as late as necessary to complete scheduled business.

Agenda for the Pelagic Plan Team Meeting

Tuesday, May 3, 2022, 1 p.m. to 5 p.m. HST (12 p.m. to 4 p.m. SST; Wednesday, May 4, 2022, 9 a.m. to 1 p.m. ChST)

1. Welcome and Introductions

2. Approval of draft agenda

3. Review 2021 Annual SAFE Report Modules

A. Fishery Data Modules

i. American Samoa

ii. CNMI

iii. Guam

iv. Hawaii

v. International

vi. Recreational/Non-Commercial Fisheries

vii. Fishery Observations

4. Plan Team Working Group on Bycatch Reporting Update

5. Public Comment

Wednesday, May 4, 2022, 1 p.m. to 5 p.m. HST (12 p.m. to 4 p.m. SST; Thursday, May 5, 2022, 9 a.m. to 1 p.m. ChST)

6. Continued: Review 2021 Annual SAFE Report Modules

B. Ecosystem Chapter

i. Environmental & Climate Variables

ii. Habitat section

iii. Marine Planning section

iv. Socioeconomics section

v. Protected Species

7. False Killer Whale Interaction and Depredation Patterns

8. SAFE Report Discussion

A. 2021 Report Region Wide Improvements & Recommendations

B. Other SAFE Report Matters

Thursday, May 5, 2022, 1 p.m. to 5 p.m. HST (12 p.m. to 4 p.m. SST; Friday, May 6, 2022, 9 a.m. to 1 p.m. ChST)

9. Pelagic Plan Team Action Items

A. Aquaculture Management Framework Alternatives (Action Item)

B. Alternatives for NWHI Fishing Regulations (Action Item)

10. Plan Team Discussion on Declining Trends for Some PMUS

A. Timeline of Notable Management Actions & Fishery Changes

B. Discussion on Data and Analyses to Inform Trends

11. Forage Fish Act Discussion

12. Public Comment

13. Pelagic Plan Team Recommendations

14. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 12, 2022.
Tracey L. Thompson,
Acting Deputy Director, Office of Sustainable Fisheries, National Marine Fisheries Service.

[FR Doc. 2022-08106 Filed 4-14-22; 8:45 am]

BILLING CODE 3510-22-P